FEDERAL RESERVE SYSTEM

Change in Bank Control Notices, Acquisition of Shares of Bank or Bank Holding Companies; Correction

This notice corrects a notice (FR Doc. E8-7920published on page 15982 of the issue for Wednesday, April 8, 2009.

Under the Federal Reserve Bank of Richmond heading, the entry for David L. Sokol, Omaha, Nebraska, is revised to read as follows:

A. Federal Reserve Bank of Richmond (A. Linwood Gill, III, Vice President) 701 East Byrd Street, Richmond, Virginia 23261-4528:

1. David L. Sokol as trustee of the David L. Sokol Revocable Trust, Omaha, Nebraska; to acquire voting shares of Middleburg Financial Corporation, and thereby indirectly acquire voting shares of Middleburg Bank, both of Middleburg, Virginia.

Comments on this application must be received by April 21, 2009.

Board of Governors of the Federal Reserve System, April 9, 2009.
Robert deV. Frierson,
Deputy Secretary of the Board.

[FR Doc. E9-8476 Filed 4-13-09; 8:45 am]

BILLING CODE 6210-01-S